DEPARTMENT OF ENERGY

Federal Energy Regulatory Commission

[P-13123-002—CA]

Eagle Mountain Pumped Storage Hydroelectric Project; Eagle Crest Energy; Notice of Meeting With the Bureau of Land Management

a. Date and Time of Meeting: Wednesday, May 8, 2013, at 9:00 a.m. (Pacific Time)

b. Location: In the vicinity of Palm Springs, California; however the precise meeting location is still pending and will be provided in a subsequent notice.

c. FERC Contact: Kenneth Hogan, (202) 502-8434: Kenneth.Hogan@ferc.gov.

d. Purpose of the Meeting: Commission staff will meet with the staff of the Bureau of Land Management to improve agency coordination and discuss the agencies' overlapping jurisdictions (pursuant to the Federal Land Policy and Management Act and the Federal Power Act), on the Eagle Mountain Pumped Storage Hydroelectric Project.

e. All local, state, and federal agencies, tribes, and interested parties, are hereby invited to observe the meeting in person.

f. This meeting was originally noticed on July 17, 2012, and subsequently postponed on August 3, 2012.

Dated: April 23, 2013.
Kimberly D. Bose,
Secretary.

[FR Doc. 2013-10136 Filed 4-29-13; 8:45 am]

BILLING CODE 6717-01-P